FEDERAL EMERGENCY MANAGEMENT AGENCY

44 CFR Part 67

[Docket No. FEMA-B-7423]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFE and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Acting Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

Iowa.—Johnson County, Iowa and Incorporated Areas
Flooding source(s) | Location of referenced elevation | Elevation feet *(NGVD): Effective | Modified | Communities affected
Iowa River | Approximately 10,000 feet upstream of the confluence with Snyder Creek | *636 | *636 | Johnson County, City of Iowa City and City of Coralville.
| Just downstream of U.S. Highway 6 | *643 | *644
| Approximately 4,000 feet upstream of Coralville Dam | *657 | *657
Ralston Creek | Just upstream of the North Branch Ralston Creek Detention Dam | *699 | *700 | City of Iowa City and Johnson County.
| Approximately 500 feet upstream of Scott Boulevard | None | *731
South Branch Ralston Creek | Just upstream of Scott Boulevard | None | *723 | City of Iowa City and Johnson County.
| Approximately 3,700 feet upstream of Scott Boulevard | None | *727
North Branch Snyder Creek | Approximately 4,550 feet downstream of U.S. Route 6 | None | *650 | City of Iowa City and Johnson County.
| Approximately 2,050 feet upstream of Chicago Rock Island and Pacific Railroad | None | *668
Clear Creek | At confluence with Iowa River | *653 | *654 | Johnson County, City of Iowa City and City of Tiffin.
| Approximately 4,100 feet upstream of Camp Cardinal Road | *667 | *668
| Approximately 5,300 feet downstream of Interstate 80 | *671 | *672
Willow Creek | At confluence with Iowa River | *641 | *642 | City of Iowa City and Johnson County.
| Approximately 650 feet upstream of U.S. Route 218 | None | *721
West Branch Snyder Creek | At confluence with North Branch Snyder Creek | None | *662 | Johnson County and City of Iowa City.
| Approximately 900 feet upstream of The West Spur Railroad | None | *673
Middle Branch Willow Creek | At confluence with Willow Creek | None | *677 | City of Iowa City.
| Approximately 300 feet upstream of Mormon Trek Boulevard | None | *690
#Depth in feet above ground.

ADDRESSES:

Johnson County, Iowa and Incorporated Areas:

Maps are available for inspection at Johnson County and Planning and Zone, 913 South Dubuque Street, Iowa City, Iowa

Send comments to Ms. Sally Stutsman, Chairperson, Johnson County, Board of Supervisors, Iowa City, Iowa 52240

City of Iowa City, Iowa:

Maps are available for inspection at the County Courthouse, P.O. Box325, Allison, Iowa

Send comments to The Honorable Ernest W. Lehman, Mayor, 410 East Washington Street, Iowa City, Iowa 52240

City of Tiffin, Iowa:

Maps are available for inspection at Tiffin City Hall, 211 Main Street, Tiffin, Iowa

Send comments to the Honorable Glenn Potter, Mayor, P.O. Box 196, Tiffin, Iowa 52430

City of Coralville:

Maps are available for inspection at the Coralville City Hall, 1512 17th Street, Coralville, Iowa

Send comments to the Honorable Jim Fausett, Mayor, City of Coralville, 1512 7th Street, P.O. Box 5127 Coralville, City of Iowa 52241

(Catalog of Federal Domestic Assistance No. 83.100, “Flood Insurance.”)
Dated: December 19, 2001.
Robert F. Shea,
Acting Administrator, Federal Insurance and Mitigation Administration.

[FR Doc. 02-320 Filed 1-4-02; 8:45 am]

BILLING CODE 6718-04-P